DEPARTMENT OF EDUCATION

[CFDA Nos. 84.007, 84.032, 84.033, 84.038, 84.063, 84.069, and 84.268]

Student Assistance General Provisions, Federal Supplemental Educational Opportunity Grant, Federal Family Education Loan, Federal Work-Study, Federal Perkins Loan, Federal Pell Grant, Leveraging Educational Assistance Partnership, and William D. Ford Federal Direct Loan; Notice of Deadline and Submission Dates for Receipt of Applications, Reports, and Other Documents for the 2001-2002 Award Year

SUMMARY: The Secretary announces the deadline and submission dates for receiving documents from institutions and applicants for assistance under the Federal Perkins Loan, Federal Work-Study (FWS), Federal Supplemental Educational Opportunity Grant (FSEOG), Federal Family Education Loan (FFEL), William D. Ford Federal Direct Loan (Direct Loan), Federal Pell Grant, and Leveraging Educational Assistance Partnership (LEAP) programs for the 2001-2002 award year.

The FSEOG (84.007), FFEL (84.032), FWS (84.033), Federal Perkins Loan (84.038), Federal Pell Grant (84.063), LEAP (84.069), and Direct Loan (84.268) programs, administered by the U.S. Department of Education (Department), provide assistance to students attending eligible institutions of higher education to help them pay for their educational costs.

Deadline and Submission Dates: See Tables A and B at the end of this notice.

Table A provides deadline dates for application processing and receipt of Student Aid Reports (SARs) or Institutional Student Information Records (ISIRs).

Table B provides the earliest submission and deadline dates for submitting Federal Pell Grant Disbursement Records to the Department's Recipient Financial Management System (RFMS). Any disbursement record received prior to the earliest submission date is rejected. The Secretary may initiate an adverse action, such as a fine or other penalty, for an institution's failure to submit a Federal Pell Grant disbursement record within the required 30-day timeframe. That failure may also result in an audit or program review finding for an institution.

In general, an institution must submit a Federal Pell Grant disbursement record no later than 30 days after disbursing a Federal Pell Grant to a student. The Secretary considers a disbursement of Federal Pell Grant funds to occur on the earlier of the date that the institution: (a) Credits those funds to a student's account in the institution's general ledger or any subledger of the general ledger, or (b) pays those funds to a student directly. The Secretary considers a disbursement to have occurred even if institutional funds are used in advance of receiving the program funds from the Department (34 CFR 668.164(a)).

Table B also provides the latest date an institution may request Year-To-Date records and administrative relief.

Proof of Delivery

The Secretary accepts as proof of delivery if the documents were submitted by mail or by non-U.S. Postal Service courier, one of the following:

(1) A legible mail receipt with the date of mailing stamped by the U.S. Postal Service.

(2) A legibly-dated U.S. Postal Service postmark.

Note: The U.S. Postal Service does not uniformly provide a dated postmark. Before relying on this method of proof of mailing, check with the post office at which the submission was mailed. The Secretary strongly encourages the use of First Class Mail.

(3) A dated shipping label, invoice, or receipt from a commercial courier.

(4) Other proof of mailing or delivery acceptable to the Secretary.

Other Sources for Detailed Information on the Application and Automated Processes

A more detailed discussion of the student application process for the Federal Pell Grant Program is contained in the Department's following publications:

• 2001-2002 Student Guide.

• Funding Your Education.

• 2001-2002 High School Counselor's Handbook.

• A Guide to 2001-2002 SARs and ISIRs.

• 2001-2002 Federal Student Financial Aid Handbook.

A more detailed discussion of the institutional reporting requirements for the Federal Pell Grant Program is also contained in the Federal Student Financial Aid Handbook. These materials may be found at the Information for Financial Aid Professionals web site at: http://www.ifap.ed.gov.

Applicable Regulations: The following regulations apply: (1) Federal Pell Grant Program, 34 CFR part 690, (2) Student Assistance General Provisions, 34 CFR part 668, and (3) Institutional Eligibility under the Higher Education Act of 1965, as amended, 34 CFR part 600.

FOR FURTHER INFORMATION CONTACT: Jacquelyn C. Butler, Program Specialist, U.S. Department of Education, Office of Student Financial Assistance Programs, 400 Maryland Avenue, SW., ROB-3, room 3045, Washington, DC 20202-5447. Telephone: (202) 708-8242.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other Department of Education documents published in the Federal Register, in text or Adobe Portable Document Format (PDF) on the Internet at the following site: http://www.ed.gov/legislation/FedRegister.

To use PDF, you must have Adobe Acrobat Reader, which is available free at this site. If you have questions about using PDF, call the U.S. Government Printing Office (GPO), toll free, at 1-888-293-6498; or in the Washington, DC area, at (202) 512-1530.

You may also view this document in text or PDF at the following site: http://www.ifap.ed.gov.

Note: The official version of this document is the document published in the Federal Register. Free Internet access to the official edition of the Federal Register and the Code of Federal Regulations is available on GPO Access at: http://www.access.gpo.gov/nara/index.html.

Program Authority: 20 U.S.C. 421-429, 1070a, 1070b-1070b-3, 1070c-1070c-4, 1071-1087-2, 1087a, and 1087aa-1087ii; 42 U.S.C. 2751-2756b.

Dated: August 14, 2001.
Greg Woods,
Chief Operating Officer, Student Financial Assistance.

Table A.—Deadline Dates for Application Processing and Receipt of Student Aid Reports (SARs) or Institutional Student Information Records (ISIRs)
Who submits? | What is submitted? | Where is it submitted? | What is the deadline date for receipt?
Student | Free Application for Federal Student Aid (FAFSA) on the Web, Renewal FAFSA on the Web, or FAFSA Express electronic application | Electronically to the Department's Central Processing System (CPS) | July 1, 2002.¹
| Signature Page (if required) | The address printed on the signature page | August 21, 2002.
Student through an Institution | An electronic original or renewal application | Electronically to the Department's CPS | July 1, 2002.¹
Student | A paper original Free Application for Federal Student Aid (FAFSA) or paper Renewal FAFSA | The address printed on the FAFSA, Renewal FAFSA, or envelope provided with the form | July 1, 2002.
Student | Correction on the Web | Electronically to the Department's CPS | August 16, 2002.¹
| Signature Page (if required) | The address printed on the signature page | August 21, 2002.
Student through an Institution | Electronic corrections and duplicate requests | Electronically to the Department's CPS | August 27, 2002.¹
Student | Corrections submitted using Part 2 of an SAR | The address printed on Part 2 of the SAR | August 16, 2002.
Student | Change of address, change of institutions, and duplicate requests | The address printed on Part 2 of the SAR | August 16, 2002.
|  | The Federal Student Aid Information Center by calling 1-800-433-3243 | August 27, 2002.
Student | Valid SAR | Institution | The earlier of:
Student through the Department's CPS | Valid ISIR ⁴ | Institution receives ISIR from the Department's CPS | —The student's last date of enrollment; or —September 3, 2002.
Student | Verification documents | Institution | The earlier of: ² —90 days after the student's last date of enrollment; or —September 3, 2002.
Student | Valid SAR after verification | Institution | The earlier of: ³
Student through the Department's CPS | Valid ISIR after verification.⁴ | Institution receives ISIR from the Department's CPS | —90 days after the student's last date of enrollment; or —September 3, 2002.
¹ The deadline for electronic transactions is 12 midnight (Central Time) on the deadline date. Transmissions must be completed and accepted by 12 midnight to meet the deadline. If transmissions are started before 12 midnight but are not completed until after 12 midnight, those transmissions will not meet the deadline. In addition, an transmission picked up on or just prior to the deadline date that gets rejected may not be able to be reprocessed because the deadline will have passed by the time the user gets the information notifying him/her of the reject.
² Although the Secretary has set this deadline date for the submission verification documents to the institution, if corrections are required, the earlier deadline dates for submission of paper or electronic corrections must still be met.
³ The institution must have already received an SAR or ISIR with an eligible EFC while the student was enrolled and eligible for payment. Students completing verification while no longer enrolled will be paid based on the higher of the two EFCs.
⁴ For this purpose, the date the ISIR transaction was processed by CPS is considered to be the date the institution received the ISIR. The CPS process date is on the 2001-2002 ISIR record layout, field 163. It is also printed on the first page of the SAR and ISIR.

Table B.—Earliest Submission and Deadline Dates for Submitting Federal Pell Grant Disbursement Records
Who submits? | What is submitted? | Where is it submitted? | What is the earliest submission and deadline date for receipt?
Institution | At least one acceptable disbursement record must be submitted for each Federal Pell Grant recipient at the institution by: Electronic Data Exchange (EDE) ¹ | To RFMS using EDE or custom software: Student Air Internet Gateway (SAIG) (formerly Title IV Wide Area Network) | An institution may submit disbursement records as early as June 21, 2001, but can not submit a disbursement record any earlier than: (a) 30 calendar days prior to the disbursement date under the Advance payment method; (b) 5 calendar days prior to the disbursement date under the Just in-time payment method; or (c) The date of disbursement under the Reimbursement or Cash Monitoring payment methods.
|  |  | An institution is required to submit a disbursement record not later than the earlier of: (1) 30 calendar days after the institution —Makes a disbursement; or —Becomes aware of the need to make an adjustment to previously reported disbursement data; or (b) September 30, 2002.
|  |  | After September 30, 2002, an institution may submit a disbursement record only: (a) For a downward adjustment of a previously reported award; or (b) Based upon a program review or initial audit finding per 34 CFR 690.83.
| Requests for Year-To-Date Records | 1. Pell Grant User Support Hotline: 1-800-474-7268 2. http://www. pellgrantsonline.ed.gov 3. SAIG. | August 16, 2002.²
| Request for administrative relief based on a natural disaster or other unusual circumstances, or an administrative error made by the Department or Departmental contractors | 1. U.S. Department of Education, Office of Student Financial Assistance, Schools Channel/Pell Operations, P.O. Box 23781, Washington, DC 20026-0781 2. http://www. pellgrantson line.ed.gov 3. by email: sfa. administrative. relief@ed.gov | January 31, 2003.
¹ An institution must ensure that its transmission of disbursement records is completed before midnight (local time at the institution's EDE destination point) on September 30, 2002.
² Year-To-Date records may be requested after this date, however, there may not be sufficient time for institutions to receive the file, create a disbursement record batch and submit to the Secretary by the September 30, 2002 deadline date for receipt of all 2001-2002 requests for payment.
Note: RFMS must accept a student origination record for a student from an institution before it accepts a disbursement record from the institution for that student. An institution may submit an origination and a disbursement record for a student in the same transmission.

[FR Doc. 01-20855 Filed 8-17-01; 8:45 am]

BILLING CODE 4000-01-P